DEPARTMENT OF COMMERCE

International Trade Administration

[A-580-839]

Notice of Amended Final Results of Antidumping Duty Administrative Review: Certain Polyester Staple Fiber from Korea

AGENCY: Import Administration, International Trade Administration, Department of Commerce.

EFFECTIVE DATE: November 22, 2004.

FOR FURTHER INFORMATION CONTACT: Andrew McAllister, Import Administration, International Trade Administration, U.S. Department of Commerce, 14th Street and Constitution Avenue, NW, Washington, DC 20230; telephone: (202) 482-1174.

SUPPLEMENTARY INFORMATION:

Scope of the Order

For the purposes of this order, the product covered is certain polyester staple fiber (“PSF”). PSF is defined as synthetic staple fibers, not carded, combed or otherwise processed for spinning, of polyesters measuring 3.3 decitex (3 denier, inclusive) or more in diameter. This merchandise is cut to lengths varying from one inch (25 mm) to five inches (127 mm). The merchandise subject to this order may be coated, usually with a silicon or other finish, or not coated. PSF is generally used as stuffing in sleeping bags, mattresses, ski jackets, comforters, cushions, pillows, and furniture. Merchandise of less than 3.3 decitex (less than 3 denier) currently classifiable under the Harmonized Tariff Schedule of the United States (“HTSUS”) at subheading 5503.20.00.20 is specifically excluded from this order. Also specifically excluded from this order are polyester staple fibers of 10 to 18 denier that are cut to lengths of 6 to 8 inches (fibers used in the manufacture of carpeting). In addition, low-melt PSF is excluded from this order. Low-melt PSF is defined as a bi-component fiber with an outer sheath that melts at a significantly lower temperature than its inner core.

The merchandise subject to this order is currently classifiable in the HTSUS at subheadings 5503.20.00.45 and 5503.20.00.65. Although the HTSUS subheadings are provided for convenience and customs purposes, the written description of the merchandise under order is dispositive.

Amended Final Results

On October 8, 2004, the Department of Commerce (“the Department”) determined that certain PSF from the Republic of Korea (“Korea”) is being sold in the United States at less than fair value, as provided in section 751(a) of the Tariff Act of 1930, as amended (“the Act”). See Certain Polyester Staple Fiber from Korea: Final Results of Antidumping Duty Administrative Review and Final Determination to Revoke the Order In Part, 69 FR 61341 (October 18, 2004) (“Final Results”). On October 18, 2004, Saehan Industries, Inc. (“Saehan”) filed a timely ministerial error allegation pursuant to 19 CFR 351.224(c)(2). The petitioner¹ in this review did not file comments on Saehan's allegation.

¹ Arteva Specialties S.a.r.l., d/b/a Kosa and Wellman, Inc.

Saehan contends that the Department excluded credit expenses from the calculation of home market direct selling expenses in the final margin program.

In accordance with section 735(e) of the Act, we have determined that ministerial errors were made in our final results margin calculations. Specifically, we find that we did not include home market credit expenses in Saehan's calculation of home market direct selling expenses. For a detailed discussion of the ministerial error allegation and the Department's analysis, see Memorandum to Susan Kuhbach, “Antidumping Duty Administrative Review of Certain Polyester Staple Fiber from the Republic of Korea; Allegation of Ministerial Error,” dated November 12, 2004, which is on file in the Central Records Unit (“CRU”), room B-099 of the main Department building.

In addition, when examining Saehan's ministerial error allegation, the Department found another ministerial error. For a full description, see Memorandum to File, “Ministerial Error in Saehan Industries, Inc.'s Final Margin Calculation,” dated October 22, 2004, which is on file in the Department's CRU. No parties commented on the correction of this clerical error.

In accordance with 19 CFR. 351.224(e), we are amending the final results of the antidumping duty administrative review of PSF from Korea to correct these ministerial errors.

The revised weighted-average dumping margin for Saehan is listed below:

Producer/Manufacturer/Exporter | Original Weighted-average margin percentage | Amended Results Weighted-average margin percentage
Saehan Industries, Inc. | 4.19 | 2.13

Cash Deposit Rates

The following antidumping duty deposits will be required on all shipments of PSF from Korea entered, or withdrawn from warehouse, for consumption, effective on or after the publication date of the final results of this administrative review, as provided by section 751(a)(1) of the Act: (1) the cash deposit rate for the reviewed company will be the rate listed above; (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 7.91 percent, the “all others” rate established in Certain Polyester Staple Fiber from the Republic of Korea: Notice of Amended Final Determination and Amended Order Pursuant to Final Court Decision, 68 FR 74552 (December 24, 2003). These cash deposit requirements shall remain in effect until publication of the final results of the next administrative review.

Assessment Rates

The Department will issue appropriate assessment instructions directly to U.S. Customs and Border Protection within 15 days of publication of these amended final results of review.

We are issuing and publishing this determination and notice in accordance with sections 751(a)(1) and 771(i)(1) of the Act.

Dated: November 15, 2004.
James J. Jochum,
Assistant Secretary for Import Administration.

[FR Doc. E4-3277 Filed 11-19-04; 8:45 am]

BILLING CODE 3510-DS-S